SECURITIES AND EXCHANGE COMMISSION

[SEC File No. 270-035, OMB Control No. 3235-0029]

Submission for OMB Review; Comment Request

Upon Written Request, Copies Available From: Securities and Exchange Commission, Office of FOIA Services, 100 F Street NE., Washington, DC 20549-2736

Extension:

Rule 17Ad-2(c), (d), and (h)

Notice is hereby given that pursuant to the Paperwork Reduction Act of 1995 (“PRA”) (44 U.S.C. 3501 et seq.), the Securities and Exchange Commission (“Commission”) has submitted to the Office of Management and Budget (“OMB”) a request for approval of extension of the previously approved collection of information provided for in Rule 17Ad-2(c), (d), and (h), (17 CFR 240.17Ad-2(c), (d), and (h)), under the Securities Exchange Act of 1934 (15 U.S.C. 78a et seq.).

Rule 17f-2(c) allows persons required to be fingerprinted pursuant to Section 17(f)(2) of the Act to submit their fingerprints to the Attorney General of the United States or its designee (i.e., the Federal Bureau of Investigation (“FBI”)) through a registered national securities exchange or a registered national securities association (collectively, also known as “self-regulatory organizations” or “SROs”) pursuant to a fingerprint plan filed with, and declared effective by, the Commission. Fingerprint plans have been approved for the American, Boston, Chicago, New York, and Philadelphia stock exchanges and for the Financial Industry Regulatory Authority (“FINRA”) and the Chicago Board Options Exchange. Currently, the bulk of the fingerprints are submitted through FINRA.

It is estimated that 4,200 respondents submit approximately 285,600 sets of fingerprints (consisting of approximately 243,600 electronic sets and 42,000 hard copy sets) to SROs on an annual basis. The Commission estimates that it would take approximately 15 minutes to create and submit each fingerprint card. The total reporting burden is therefore estimated to be approximately 71,400 hours, or approximately 15 hours per respondent, annually.

In addition, the SROs charge an estimated $25.00 fee for processing fingerprint cards submitted electronically, resulting in a total annual cost to all 4,200 respondents of $6,090,000, or $1,450 per respondent per year. The SROs charge an estimated $40.00 fee for processing fingerprint cards submitted in hard copy, resulting in a total annual cost to all 4,200 respondents of approximately $1,680,000, or $400 per respondent per year. The combined annual cost to all respondents is thus $7,770,000.

Because the FBI will not accept fingerprint cards directly from submitting organizations, Commission approval of fingerprint plans from certain SROs is essential to carry out the Congressional goal to fingerprint securities industry personnel. Filing these plans for review assures users and their personnel that fingerprint cards will be handled responsibly and with due care for confidentiality.

An agency may not conduct or sponsor, and a person is not required to respond to, a collection of information under the PRA unless it displays a currently valid OMB control number.

The public may view background documentation for this information collection at the following Web site: www.reginfo.gov. Comments should be directed to: (i) Desk Officer for the Securities and Exchange Commission, Office of Information and Regulatory Affairs, Office of Management and Budget, Room 10102, New Executive Office Building, Washington, DC 20503, or by sending an email to: Shagufta_Ahmed@omb.eop.gov; and (ii) Pamela Dyson, Director/Chief Information Officer, Securities and Exchange Commission, c/o Remi Pavlik-Simon, 100 F Street NE., Washington, DC 20549, or by sending an email to: PRA_Mailbox@sec.gov. Comments must be submitted to OMB within 30 days of this notice.

Dated: November 21, 2017.
Eduardo A. Aleman,
Assistant Secretary.

[FR Doc. 2017-25600 Filed 11-27-17; 8:45 am]

BILLING CODE 8011-01-P